DEPARTMENT OF EDUCATION

[Docket ID ED-2021-IES-0118]

Request for Information on the Department of Education's Fiscal Year (FY) 2022-2026 Learning Agenda

AGENCY: Institute of Education Sciences, Department of Education.

ACTION: Request for information.

SUMMARY: The Foundations for Evidence-Based Policymaking Act of 2018 and implementing guidance require Federal agencies to develop an evidence-building plan, referred to as a Learning Agenda, to identify and address questions relevant to agency programs, policies, and regulations. Through this request for information (RFI), we seek public input to help us identify priority questions to guide our evidence-building activities.

DATES: We must receive your comments by September 16, 2021.

ADDRESSES: Submit your response to this RFI through the Federal eRulemaking Portal. We will not accept submissions by postal mail, commercial mail, hand delivery, fax, or email. To ensure that we do not receive duplicate copies, please submit your comments only once. In addition, please include the Docket ID at the top of your comments.

Federal eRulemaking Portal: Go to www.regulations.gov to submit your comments electronically. Information on using Regulations.gov, including instructions for accessing agency documents, submitting comments, and viewing the docket, is available on the site under the “FAQ” tab.

Privacy Note: The Department's policy for comments received from members of the public is to make these submissions available for public viewing in their entirety on the Federal eRulemaking Portal at www.regulations.gov. Therefore, commenters should be careful to include in their comments only information that they wish to make publicly available. We encourage, but do not require, that each respondent include his or her name, title, institution or affiliation, and the name, title, mailing and email addresses, and telephone number of a contact person for his or her institution or affiliation, if any.

FOR FURTHER INFORMATION CONTACT: Matthew Soldner, Commissioner, National Center for Education Evaluation and Regional Assistance & Evaluation Officer, Institute of Education Sciences, U.S. Department of Education, 400 Maryland Avenue SW, Room 4160, Potomac Center Plaza, Washington, DC 20202-7240. Telephone: (202) 245-8385. Email: Matthew.Soldner@ed.gov.

If you use a telecommunications device for the deaf (TDD) or a text telephone (TTY), call the Federal Relay Service (FRS), toll-free, at 1-800-877-8339.

SUPPLEMENTARY INFORMATION:

Background

The Foundations for Evidence-Based Policymaking Act of 2018 ¹ requires Federal agencies to develop “a systematic plan for identifying and addressing policy questions relevant to the programs, policies, and regulations of the agency.” ² This plan, referred to as a Learning Agenda, offers the opportunity for the Department to develop evidence in service of achieving its strategic goals and objectives, answering important short- and long-term strategic and operational questions. We seek public comments to inform the development of our FY 2022-2026 Learning Agenda.

¹ www.govinfo.gov/content/pkg/PLAW-115publ435/html/PLAW-115publ435.htm.

² 5 U.S.C. 312(a).

This is a request for information only. This RFI is not a request for proposals (RFP) or a promise to issue an RFP or a notice inviting applications. This RFI does not commit the Department to contract for any supply or service whatsoever. Further, we are not seeking proposals and will not accept unsolicited proposals. The Department will not pay for any information or administrative costs that you may incur in responding to this RFI. The documents and information submitted in response to this RFI will not be returned.

We will review every comment, and, as described above, electronic comments in response to this RFI will be publicly available on the Federal eRulemaking Portal at www.regulations.gov. Please note that IES will not directly respond to comments.

Solicitation of Comments

The Department intends to focus its FY 2022-2026 evidence-building activities on six areas that are related to achieving the Department's education mission and are consistent with the Secretary's vision for American education.³ We list each area below and invite stakeholders who are interested in the work of the Department for their input on (1) the most important questions about which evidence should be built in each area; (2) specific evidence-building activities that should be undertaken, either by the Department or by others with the capacity to do so, to answer those questions; and (3) areas not listed below to which the Department should pay particular attention as it refines its FY 2022-2026 Learning Agenda during this and future fiscal years. These six areas of the Learning Agenda are—

³ For more background, see www.federalregister.gov/documents/2021/06/30/2021-14003/proposed-priorities-and-definitions-secretarys-supplemental-priorities-and-definitions-for.

1. Addressing the impact of COVID-19 on students, schools and institutions of higher education, educators, and their communities;

2. Promoting equity in student access to educational resources, opportunities, and welcoming, safe, and inclusive environments;

3. Meeting student social, emotional, mental health, basic, and academic needs;

4. Increasing postsecondary education access, affordability, completion, and post-enrollment success;

5. Supporting a well-prepared diverse educator workforce and their professional growth to strengthen student learning; and

6. Improving Federal student aid programs.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Matthew Soldner,
Commissioner, National Center for Education Evaluation and Regional Assistance & Agency Evaluation Officer.

[FR Doc. 2021-17625 Filed 8-16-21; 8:45 am]

BILLING CODE 4000-01-P